DEPARTMENT OF DEFENSE

Department of the Army, Corps of Engineers

33 CFR Part 334

United States Army Restricted Area, Designated Portions of Eagle Bay and Eagle River, Fort Richardson, AK

AGENCY: United States Army Corps of Engineers, DoD.

ACTION: Notice of proposed rulemaking and request for comments.

SUMMARY: The U.S. Army Corps of Engineers is proposing to revise its regulations to establish a restricted area to change the navigability status of a portion of Eagle River within the boundaries of Fort Richardson, Alaska as well as an adjacent portion of Eagle Bay in the Knik Arm. More specifically, the restricted area is to include all waters of Eagle River downstream from the Bravo Bridge as well as the portion of Eagle Bay east of a demarcation line to extend from two points of Fort Richardson land along northern and southern shores of the Bay. This amendment would prohibit vessels and persons from entering affected waters of Eagle Bay and Eagle River in order to enhance safety and security. This portion of Eagle River runs through an active military range munitions impact area. This portion of Eagle Bay could be subjected to hazardous levels of noise during certain training exercises; Army control of this area is also necessary to prevent unauthorized access into the impact area. The restricted area is necessary to protect the public from entering an extremely hazardous area.

DATES: Written comments must be submitted by September 30, 2010.

ADDRESSES: You may submit comments, identified by docket number COE-2010-0031, by any of the following methods:

Federal eRulemaking Portal: http://www.regulations.gov. Follow the instructions for submitting comments.

E-mail: david.b.olson@usace.army.mil. Include the docket number, COE-2010-0031, in the subject line of the message.

Mail: U.S. Army Corps of Engineers, Attn: CECW-CO (David B. Olson), 441 G Street, NW., Washington, DC 20314-1000.

Hand Delivery/Courier: Due to security requirements, we cannot receive comments by hand delivery or courier.

Instructions: Direct your comments to docket number COE-2010-0031. All comments received will be included in the public docket without change and may be made available on-line at http://www.regulations.gov, including any personal information provided, unless the commenter indicates that the comment includes information claimed to be Confidential Business Information (CBI) or other information whose disclosure is restricted by statute. Do not submit information that you consider to be CBI, or otherwise protected, through regulations.gov or e-mail. The regulations.gov Web site is an anonymous access system, which means we will not know your identity or contact information unless you provide it in the body of your comment. If you send an e-mail directly to the Corps without going through regulations.gov, your e-mail address will be automatically captured and included as part of the comment that is placed in the public docket and made available on the Internet. If you submit an electronic comment, we recommend that you include your name and other contact information in the body of your comment and with any disk or CD-ROM you submit. If we cannot read your comment because of technical difficulties and cannot contact you for clarification, we may not be able to consider your comment. Electronic comments should avoid the use of any special characters, any form of encryption, and be free of any defects or viruses.

Docket: For access to the docket to read background documents or comments received, go to http://www.regulations.gov. All documents in the docket are listed. Although listed in the index, some information is not publicly available, such as CBI or other information whose disclosure is restricted by statute. Certain other material, such as copyrighted material, is not placed on the Internet and will be publicly available only in hard copy form.

FOR FURTHER INFORMATION CONTACT: Mr. David Olson, Headquarters, Operations and Regulatory Community of Practice, Washington, DC at 202-761-4922 or Ms. Serena Sweet, U.S. Army Corps of Engineers, Alaska District, Regulatory Division, at 907-753-2819.

SUPPLEMENTARY INFORMATION: In response to a request from the Department of the Army and pursuant to its authorities in Section 7 of the River and Harbor Act of 1917 (40 Stat. 266; 33 U.S.C. 1) and Chapter XIX, of the Army Appropriations Act of 1919 (40 Stat. 892; 33 U.S.C. 3) the Corps is proposing to amend the restricted area regulations in 33 CFR part 334 to establish a restricted area to the east of a demarcation line bisecting Eagle Bay and extending up Eagle River to Bravo Bridge within Fort Richardson. The restricted area is necessary to protect the public against hazardous noise impacts and to prevent vessels and persons from entering an active military range munitions impact area.

Procedural Requirements

a. Review Under Executive Order 12866

This proposed rule is issued with respect to a military function of the Defense Department and the provisions of Executive Order 12866 do not apply.

b. Review Under the Regulatory Flexibility Act

This proposed rule has been reviewed under the Regulatory Flexibility Act (Pub. L. 96-354) which requires the preparation of a regulatory flexibility analysis for any regulation that will have a significant economic impact on a substantial number of small entities (i.e., small businesses and small governments). Due to the nature of the waterway and the minimal historic use of this portion of Eagle Bay for travel, recreation or fishing, as well as the availability of an alternate channel within Knik Arm, the Corps expects that the economic impact of this portion of the restricted area would have practically no impact on the public and no anticipated navigational hazard or interference with existing waterway traffic, and accordingly, certifies that this proposed rule will have no significant economic impact on small entities.

c. Review Under the National Environmental Policy Act

Due to the administrative nature of this action and because there is no intended change in the use of the area, the Corps expects that this regulation, if adopted, will not have a significant impact to the quality of the human environment and, therefore, preparation of an environmental impact statement, for the establishment of this restricted area, is not required. An environmental assessment (EA) will be prepared after the public notice comment period is closed and all comments have been received and considered. After it is prepared, it may be reviewed at the District office listed at the end of the FOR FURTHER INFORMATION CONTACT section, above.

d. Unfunded Mandates Act

This proposed rule does not impose an enforceable duty upon the private sector. Therefore, it is not a Federal private sector mandate and is not subject to the requirements of Section 202 or 205 of the Unfunded Mandates Act. We have also found under Section 203 of the Act, that small Governments will not be significantly and uniquely affected by this rulemaking.

List of Subjects in 33 CFR Part 334

Danger zones, Marine safety, Navigation (water), Restricted areas, Waterways.

For the reasons stated in the preamble, the Corps proposes to amend 33 CFR part 334 as follows:

PART 334—DANGER ZONE AND RESTRICTED AREA REGULATIONS

1. The authority citation for 33 CFR part 334 continues to read as follows:

Authority: 40 Stat. 266 (33 U.S.C. 1) and 40 Stat. 892 (33 U.S.C. 3).

2. Add § 334.1305 to read as follows:

§ 334.1305 Eagle River Flats Weapons Training Range Impact Area, Fort Richardson, Alaska; Restricted Area.

(a) The area. The danger zone shall encompass all navigable waters of Eagle River, as defined at 33 CFR part 329, beginning at Eagle River Flats Bravo Bridge at latitude 61°18′39.33″ N, longitude 149°41′15.68″ W on Fort Richardson, Alaska extending along the shore downstream to the river's outflow to Eagle Bay in the Knik Arm, as well as those waters of Eagle Bay to the east of a demarcation line drawn from a point of Fort Richardson land located at latitude 61°22′19.195″ N, longitude 149°43′20.730″ W to a point of Fort Richardson land located at latitude 61°19′39.168″ N, longitude 149°46′32.204″ W.

(b) The regulations. To ensure public safety, the restricted area shall be closed to all watercraft navigation and persons at all times, except for vessels and individuals engaged in operational and maintenance activities authorized by the Commander, U.S. Army Garrison Alaska.

(c) Enforcement. This regulation shall be enforced by the Commander, U.S. Army Garrison Alaska or other such agencies as the Commander may designate.

Dated: August 13, 2010.
Michael G. Ensch,
Chief, Operations, Directorate of Civil Works.

[FR Doc. 2010-21735 Filed 8-30-10; 8:45 am]

BILLING CODE 3720-58-P